FEDERAL ELECTION COMMISSION

[Notice 2017-16]

Filing Dates for the Michigan Special Election in the 13th Congressional District

AGENCY: Federal Election Commission.

ACTION: Notice of filing dates for special elections.

SUMMARY: Michigan has scheduled special elections on August 7, 2018, and November 6, 2018, to fill the U.S. House of Representatives seat in the 13th Congressional District vacated by Representative John Conyers, Jr.

Committees required to file reports in connection with the Special Primary Election on August 7, 2018, shall file a 12-day Pre-Primary Report. Committees required to file reports in connection with both the Special Primary and Special General Election on November 6, 2018, shall file a 12-day Pre-Primary, 12-day Pre-General Report and a 30-day Post-General Report.

FOR FURTHER INFORMATION CONTACT: Ms. Elizabeth S. Kurland, Information Division, 999 E Street NW, Washington, DC 20463; Telephone: (202) 694-1100; Toll Free (800) 424-9530.

SUPPLEMENTARY INFORMATION:

Principal Campaign Committees

All principal campaign committees of candidates who participate in the Michigan Special Primary and Special General Elections shall file a 12-day Pre-Primary Report on July 26, 2018; a 12-day Pre-General Report on October 25, 2018; and a 30-day Post-General Report on December 6, 2018. (See charts below for the closing date for each report.)

All principal campaign committees of candidates participating only in the Special Primary Election shall file a 12-day Pre-Primary Report on July 26, 2018. (See charts below for the closing date for each report.)

Unauthorized Committees (PACs and Party Committees)

Political committees filing on a quarterly basis in 2018 are subject to special election reporting if they make previously undisclosed contributions or expenditures in connection with the Michigan Special Primary or Special General Elections by the close of books for the applicable report(s). (See charts below for the closing date for each report.)

Committees filing monthly that make contributions or expenditures in connection with the Michigan Special Primary or Special General Elections will continue to file according to the monthly reporting schedule.

Additional disclosure information in connection with the Michigan Special Elections may be found on the FEC website at https://www.fec.gov/help-candidates-and-committees/dates-and-deadlines/.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (See charts below for closing date of each period.) 11 CFR 104.22(a)(5)(v), (b).

The lobbyist bundling disclosure threshold for calendar year 2017 is $17,900. This threshold amount may increase in 2018 based upon the annual cost of living adjustment (COLA). Once the adjusted threshold amount becomes available, the Commission will publish it in the Federal Register and post it on its website. 11 CFR 110.17(e)(2). For more information on these requirements, see Federal Register Notice 2009-03, 74 FR 7285 (February 17, 2009).

Calendar of Reporting Dates for Michigan Special Elections
Report | Close of books ¹ | Reg./Cert. and overnight mailing deadline | Filing deadline
Committees Involved in Only the Special Primary (08/07/18) Must File:
Pre-Primary | 07/18/18 | 07/23/18 | 07/26/18
October Quarterly | 09/30/18 | 10/15/18 | 10/15/18
Committees Involved in Both the Special Primary (08/07/18) and Special General (11/06/18) Must File:
Pre-Primary | 07/18/18 | 07/23/18 | 07/26/18
October Quarterly | 09/30/18 | 10/15/18 | 10/15/18
Pre-General | 10/17/18 | 10/22/18 | 10/25/18
Post-General | 11/26/18 | 12/06/18 | 12/06/18
Year-End | 12/31/18 | 01/31/19 | 01/31/19
Committees Involved in Only the Special General (11/06/18) Must File:
Pre-General | 10/17/18 | 10/22/18 | 10/25/18
Post-General | 11/26/18 | 12/06/18 | 12/06/18
Year-End | 12/31/18 | 01/31/19 | 01/31/19
¹ The reporting period always begins the day after the closing date of the last report filed. If the committee is new and has not previously filed a report, the first report must cover all activity that occurred before the committee registered as a political committee up through the close of books for the first report due.

Dated: December 14, 2017.
On behalf of the Commission,
Steven T. Walther,
Chairman, Federal Election Commission.

[FR Doc. 2017-27364 Filed 12-19-17; 8:45 am]

BILLING CODE 6715-01-P